DEPARTMENT OF LABOR

Employment and Training Administration

[TA-W-57,182]

AMI Doduco, Chase Precision Products Division, Subsidary of Technitrol Reidsville, NC; Notice of Termination of Investigation

Pursuant to section 221 of the Trade Act of 1974, as amended, an investigation was initiated on May 16, 2005 in response to a petition filed by a company official on behalf of workers at AMI Doduco, Chase Precision Products Division, a subsidiary of Technitrol, Reidsville, North Carolina.

A company official has requested that the petition be withdrawn. Consequently, further investigation would serve no purpose, and the investigation has been terminated.

Signed at Washington, DC, this 10th day of June 2005.
Linda G. Poole,
Certifying Officer, Division of Trade Adjustment Assistance.

[FR Doc. E5-3359 Filed 6-27-05; 8:45 am]

BILLING CODE 4510-30-P